DEPARTMENT OF LABOR

Employment and Training Administration

[TA-W-37,778]

Shepherd Operating, Inc., Midland, Texas; Notice of Termination of Investigation

Pursuant to section 221 of the Trade Act of 1974, an investigation was initiated on June 12, 2000 in response to a petition filed by a company official on behalf of workers at Shepherd Operating, Inc., Midland, Texas.

The workers of the subject facility were separated from the subject firm more than one year prior to the date of the petition. In accordance with section 223(b)(1) of the Trade Act of 1974, no certification may apply to any worker whose last total or partial separation occurred more than one year before the date of the petition. The date of the petition is June 2, 2000, and the company closed March 31, 1999. Consequently, further investigation in this case would serve no purpose, and the investigation has been terminated.

Signed at Washington, DC., this 23rd day of June, 2000.
Edward A. Tomchick,
Program Management, Division of Trade Adjustment Assistance.

[FR Doc. 00-17307 Filed 7-7-00; 8:45 am]

BILLING CODE 4510-30-M